DEPARTMENT OF HEALTH AND HUMAN SERVICES

National Institutes of Health

National Center for Complementary & Alternative Medicine; Notice of Meeting

Pursuant to Section 10(d) of the Federal Advisory Committee Act, as amended (5 U.S.C. Appendix 2), notice is hereby given of the Cancer Advisory Panel for Complementary and Alternative Medicine (CAPCAM).

The meeting is open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended, for the discussions of individual patient information, the disclosure of which would constitute a clearly unwarranted invasion of personal privacy.

Name of Committee: Cancer Advisory Panel for Complementary and Alternative Medicine.

Date: September 18, 2000.

Open: 1:00 pm to adjournment.

Agenda: The agenda will include a report on clinical trial data on Virulizen (R) use for pancreatic cancer, an update on NIH initiatives for CAM and Cancer treatments, and other business of the Panel.

Closed: 8:30 am to 11:30 am.

Agenda: To discuss individual patient information.

Place: Pooks Hill Marriott, 5151 Pooks Hill Road, Bethesda, MD.

Contact Person: Richard Nahin, Ph.D., Executive Secretary, National Center for Complementary & Alternative Medicine, National Institutes of Health, 9000 Rockville Pike, Room 5B36, Bethesda, MD 20892, 301-496-4792.

The public comments session is scheduled from 4:30 pm to 5:00 pm. Each speaker will be permitted 5 minutes for their presentation. Interested individuals and representatives of organizations are requested to notify Dr. Richard Nahin, National Center for Complementary and Alternative Medicine, NIH, 31 Center Drive, (MSC 2182), Building 31, Room 5B36, Bethesda, Maryland, 20892, 301-496-4792, Fax 301-402-4741. Letters of intent to present comments, along with a brief description of the organization represented, should be received no later than 5:00 pm on September 13, 2000. Only one representative of an organization may present oral comments. Any person attending the meeting who does not request an opportunity to speak in advance of the meeting may be considered for oral presentation, if time permits. and at the discretion of the Chairperson. In addition, written comments may be submitted to Dr. Nahin at the address listed above up to ten calendar days (September 28, 2000) following the meeting.

Copies of the meeting agenda and the roster of members will be furnished upon request by Dr. Richard Nahin, Executive Secretary, CAPCAM, National Institutes of Health, Building 31, Room 5B36, 31 Center Drive, Bethesda, Maryland 20892, 301 496-4792, Fax 301-402-4741.

This notice is being published less than 15 days prior to the meeting due to scheduling conflicts.

Dated: September 1, 2000.
LaVerne Y. Stringfield,
Director, Office of Federal Advisory Committee Policy, NIH.

[FR Doc. 00-23316 Filed 9-11-00; 8:45 am]

BILLING CODE 4140-01-M